DEPARTMENT OF COMMERCE

International Trade Administration

[A-570-943, C-570-944]

Oil Country Tubular Goods From the People's Republic of China: Final Affirmative Determination of Circumvention of the Antidumping Duty and Countervailing Duty Orders

AGENCY: Enforcement and Compliance, International Trade Administration, Department of Commerce.

SUMMARY: The U.S. Department of Commerce (Commerce) determines that imports of seamless oil country tubular goods (OCTG) completed in Thailand using steel billets produced in the People's Republic of China (China) are circumventing the antidumping duty (AD) and countervailing duty (CVD) orders on OCTG from China.

DATES: Applicable February 27, 2026.

FOR FURTHER INFORMATION CONTACT: Walter Schaub, Office of Policy, Enforcement and Compliance, International Trade Administration, U.S. Department of Commerce, 1401 Constitution Avenue NW, Washington, DC 20230; telephone: (202) 482-0907.

SUPPLEMENTARY INFORMATION:

Background

On August 19, 2025, Commerce published in the Federal Register its Preliminary Determination ¹ that imports of seamless OCTG completed in Thailand using steel billets produced in China are circumventing the Orders.² Pursuant to section 781(e) of the Tariff Act of 1930, as amended (the Act), on September 3, 2025, Commerce notified the U.S. International Trade Commission (ITC) of its preliminary affirmative determination of circumvention.³ The ITC did not request consultations with Commerce.

¹ See Oil Country Tubular Goods from the People's Republic of China: Preliminary Affirmative Determination of Circumvention of the Antidumping Duty and Countervailing Duty Orders, 90 FR 40336 (August 19, 2025).

² See Certain Oil Country Tubular Goods from the People's Republic of China: Amended Final Determination of Sales at Less Than Fair Value and Antidumping Duty Order, 75 FR 28551 (May 21, 2010) (AD Order); see also Certain Oil Country Tubular Goods from the People's Republic of China: Amended Final Affirmative Countervailing Duty Determination and Countervailing Duty Order, 75 FR 3203 (January 20, 2010) (CVD Order) (collectively, Orders). (Preliminary Determination), and accompanying Preliminary Decision Memorandum (PDM).

³ See Commerce's Letter, “Preliminary Affirmative Determinations of Circumvention,” dated September 3, 2025.

On September 9, 2025, the domestic interested parties,⁴ as well as two mandatory respondents, Boly Pipe Co., Ltd. (Boly Pipe) and Nanobest Limited (Nanobest), submitted case briefs.⁵ On September 18, 2025, the domestic interested parties and Petroleum Equipment (Thailand) Co., Ltd. (PET), the third mandatory respondent in this proceeding, each filed a request for a public hearing regarding the Preliminary Determination.⁶ On September 22, 2025, the domestic interested parties and PET each submitted rebuttal case briefs.⁷

⁴ The domestic interested parties the Committee on Pipe and Tube Imports Subcommittee for OCTG and the United Steel, Paper and Forestry, Rubber, Manufacturing, Energy, Allied Industrial and Service Workers International Union, AFL-CIO, CLC (collectively, the domestic interested parties).

⁵ See Domestic Interested Parties' Letter, “Domestic Interested Parties' Case Brief,” dated September 9, 2025 (DIP Case Brief); see also Boly Pipe and Nanobest's Letter, “Case Brief,” dated September 9, 2025 (Boly Pipe and Nanobest Case Brief).

⁶ See Domestic Interested Parties' Letter, “Domestic Interested Parties' Request for Hearing,” dated September 18, 2025; see also PET's Letter, “PET's Hearing Request,” dated September 18, 2025.

⁷ See Domestic Interested Parties' Letter, “Domestic Interested Parties' Rebuttal Brief to Boly Pipe and Nanobest's Case Brief,” dated September 22, 2025; see also PET's Letter, “PET's Rebuttal Brief”, dated September 22, 2025 (PET Rebuttal Brief).

On September 24, 2025, Commerce extended the deadline for issuing the final determination in this circumvention inquiry until December 18, 2025.⁸ Due to the lapse in appropriations and Federal Government shutdown, on November 14, 2025, Commerce tolled all deadlines in administrative proceedings by 47 days.⁹ Additionally, due to a backlog of documents that were electronically filed via Enforcement and Compliance's Antidumping and Countervailing Duty Centralized Electronic Service System (ACCESS) during the Federal Government shutdown, on November 24, 2025, Commerce tolled all deadlines in administrative proceedings by an additional 21 days, to February 24, 2026.¹⁰ On December 2, 2025, Commerce held a public hearing regarding the Preliminary Determination.¹¹

⁸ See Memorandum, “Extension of Deadline for the Final Determination in the Circumvention Inquiry Pertaining to Thailand,” dated September 24, 2025.

⁹ See Memorandum, “Deadlines Affected by the Shutdown of the Federal Government,” dated November 14, 2025.

¹⁰ See Memorandum, “Tolling of All Case Deadlines,” dated November 24, 2025.

¹¹ See Hearing Transcript, “Circumvention Inquiry: Pertaining to Thailand,” dated December 2, 2025.

For a summary of events that occurred since the Preliminary Determination, as well as a full discussion of the issues raised by parties for consideration in the final determination, see the Issues and Decision Memorandum.¹² The Issues and Decision Memorandum is a public document and is on file electronically via ACCESS. ACCESS is available to registered users at https://access.trade.gov. In addition, a complete version of the Issues and Decision Memorandum can be accessed at https://access.trade.gov/public/FRNoticesListLayout.aspx.

¹² See Memorandum, “Issues and Decision Memorandum for the Final Determination of the Circumvention Inquiry on the Antidumping Duty and Countervailing Duty Orders on Oil Country Tubular Goods from the People's Republic of China,” dated concurrently with, and hereby adopted by, this notice (Issues and Decision Memorandum).

Scope of the Orders

The products covered by the Orders include certain OCTG, whether seamless or welded, regardless of end finish whether or not conforming to API or non-API specifications, whether finished or unfinished, whether or not thread protectors are attached. The scope of the Orders also covers OCTG coupling stock. For a full description of the scope of the Orders, see Appendix I.

Merchandise Subject to the Circumvention Inquiry

This circumvention inquiry covers seamless OCTG completed in Thailand using Chinese-origin steel billets that is subsequently exported from Thailand to the United States (inquiry merchandise).

Analysis of Comments Received

All issues raised in this inquiry are addressed in the Issues and Decision Memorandum. A list of the issues raised is attached to this notice as Appendix II.

Methodology and Final Circumvention Determination

Commerce conducted this circumvention inquiry in accordance with section 781(b) of the Act and 19 CFR 351.226. As detailed in the Issues and Decision Memorandum, Commerce determines, pursuant to section 781(b) of the Act, that imports of steel billets from China that are further processed in Thailand into inquiry merchandise are circumventing the Orders. We are applying our decision on a country-wide basis. See the “Suspension of Liquidation and Cash Deposit Requirements” section, below, for details regarding suspension of liquidation and cash deposit requirements.

Certifications

To administer the final affirmative country-wide determination of circumvention for Thailand, Commerce established importer and exporter certifications, which allow companies to certify that specific entries of seamless OCTG from Thailand are not subject to suspension of liquidation or the collection of cash deposits pursuant to this affirmative country-wide determination of circumvention if the merchandise is not made with Chinese-origin steel billets or is made with an input other than steel billets (see Appendix III).

Importers and exporters that claim that the entry of seamless OCTG is not subject to suspension of liquidation or the collection of cash deposits because the merchandise is not made with Chinese-origin steel billets or is made with an input other than steel billets must complete the applicable certification and meet the certification and documentation requirements described below, as well as the requirements identified in the applicable certification.

Certification Requirements

Exporters are required to complete and maintain the applicable exporter certification and provide the importer with a copy of that certification and all supporting documentation (e.g., invoice, purchase order, production records, etc.). With the exception of the entries described below, the exporter certification must be completed, signed, and dated by the time of shipment of the relevant entries. The exporter certification should be completed by the party selling the seamless OCTG that was manufactured in Thailand to the United States.

Importers are required to complete and maintain the applicable importer certification, and maintain a copy of the applicable exporter certification, and retain all supporting documentation for both certifications. With the exception of the entries described below, the importer certification must be completed, signed, and dated by the time the entry summary is filed for the relevant entry.

The importer, or the importer's agent, must submit the importer's certification, the exporter's certification, the commercial invoice, and the bill of lading to U.S. Customs and Border Protection (CBP) at the time of entry summary by uploading these documents into the document imaging system (DIS) in the Automated Commercial Environment (ACE). Where the importer uses a broker to facilitate the entry process, the importer should obtain the entry summary number from the broker. Agents of the importer, such as brokers, however, are not permitted to certify on behalf of the importer. Consistent with CBP's procedures, importers shall identify certified entries by using importers' additional declaration (record 54) AD/CVD Certification Designation (type code 06) when filing an entry summary.¹³

¹³ See Cargo System Messaging Service #59384253, dated February 12, 2024; see also Announcing an Importer's Additional Declaration in the Automated Commercial Environment Specific to Antidumping/Countervailing Duty Certifications, 89 FR 7372 (February 2, 2024).

If it is determined that an importer has not met the certification and/or related documentation requirements for certain entries, Commerce intends to instruct CBP to suspend, pursuant to this country-wide affirmative determination of circumvention and the Order, all unliquidated entries for which these requirements were not met and require the importer to post applicable cash deposits. Commerce may instruct CBP to assess antidumping or countervailing duties at the applicable rate.

The claims made in the certifications and any supporting documentation are subject to verification by Commerce or CBP. Importers and exporters are required to maintain the certifications and supporting documentation until the later of: (1) the date that is five years after the latest entry date of the entries covered by the certification; or (2) the date that is three years after the conclusion of any litigation in United States courts regarding such entries.

For all seamless OCTG from Thailand that was entered, or withdrawn from warehouse, for consumption during the period December 18, 2024 (the date of initiation of this circumvention inquiry), through September 3, 2025, where the entry has not been liquidated (and entries for which liquidation has not become final), the importer and exporter certifications should have been completed, signed, and uploaded to the DIS in ACE by October 3, 2025.

For unliquidated entries (and entries for which liquidation has not become final) of seamless OCTG that were declared as non-AD or non-CVD type entries (e.g., type 01) and entered, or withdrawn from warehouse, for consumption in the United States during the period December 18, 2024 (the date of initiation of these circumvention inquiries), through September 3, 2025, for which the above certification and document requirements were not met, importers must have filed a post-summary correction with CBP, in accordance with CBP's regulations, regarding conversion of such entries from non-AD or non-CVD type entries to AD or CVD type entries (e.g., type 01 to type 03). The importer must pay cash deposits on those entries consistent with the regulations governing post summary corrections that require payment of additional duties.

Suspension of Liquidation and Cash Deposit Requirements

Based on the affirmative country-wide determination of circumvention with respect to Thailand, in accordance with 19 CFR 351.226(l)(3) and (m)(1)(ii), Commerce will direct CBP to suspend liquidation and to require a cash deposit of estimated duties on unliquidated entries of inquiry merchandise that were entered, or withdrawn from warehouse, for consumption, on or after December 18, 2024, the date of publication of the initiation of this circumvention inquiry in the Federal Register.

Seamless OCTG completed in Thailand from steel billets that are not of Chinese origin is not subject to this inquiry. However, Commerce finds that seamless OCTG completed in Thailand using China-origin steel billets is circumventing the AD and CVD Orders on OCTG from China. Imports of such merchandise are subject to certification requirements, and cash deposits may be required.

Entries for which the importer and exporter have met the certification and documentation requirements described above and in Appendix III to this notice will not be subject to suspension of liquidation or the cash deposit requirements.

Where the certification and documentation requirements are not met for an entry, Commerce intends to instruct CBP to suspend the entry and collect cash deposits at the rates applicable to the AD and CVD Orders on OCTG from China. For companies with their own company-specific rates under the AD and CVD Orders, the cash deposit rates will be the company-specific rates. Otherwise, Commerce will instruct CBP to require AD cash deposits equal to the China-wide rate of 99.14 percent and CVD cash deposits equal to the all-others rate of 13.41 percent.¹⁴

¹⁴ See AD Order, 75 FR 28551; see also CVD Order, 75 FR 3203.

Commerce established the following third-country case numbers in ACE for entries of seamless OCTG completed in Thailand using China-origin steel billets: A-549-991 and C-549-992.

These suspension of liquidation requirements will remain in effect until further notice.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing this notice in accordance with sections 781(b) and 777(i) of the Act, and 19 CFR 351.226(g)(2).

Dated: February 23, 2026.
Scot Fullerton,
Acting Deputy Assistant Secretary for Antidumping and Countervailing Duty Operations.

Appendix I

Scope of the Orders

The scope of the Orders consists of OCTG, which are hollow steel products of circular cross-section, including oil well casing and tubing, of iron (other than cast iron) or steel (both carbon and alloy), whether seamless or welded, regardless of end finish (e.g., whether or not plain end, threaded, or threaded and coupled) whether or not conforming to API or non-API specifications, whether finished (including limited service OCTG products) or unfinished (including green tubes and limited service OCTG products), whether or not thread protectors are attached. The scope of the Orders also covers OCTG coupling stock. Excluded from the scope of the Orders are casing or tubing containing 10.5 percent or more by weight of chromium; drill pipe; unattached couplings; and unattached thread protectors.

The merchandise subject to this order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The OCTG coupling stock covered by the Orders may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00,, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, and 7304.59.80.80.

The HTSUS subheadings are provided for convenience and customs purposes only. The written description of the scope of the Orders is dispositive.

Appendix II

List of Topics Discussed in the Issues and Decision Memorandum

I. Summary

II. Background

III. Scope of the Orders

IV. Merchandise Subject to the Circumvention Inquiry

V. Period of the Circumvention Inquiry

VI. Discussion of the Issues

Comment 1: Consideration of Hollow Steel Billets

Comment 2: Comparison of Production in Thailand to Integrated Steel Mills

Comment 3: Whether Operations in Thailand are Minor or Insignificant

VII. Recommendation

Appendix III

Importer Certification

I hereby certify that:

A. My name is {IMPORTING COMPANY OFFICIAL'S NAME} and I am an official of {IMPORTING COMPANY}, located at {ADDRESS OF IMPORTING COMPANY};

B. I have direct personal knowledge of the facts regarding the importation into the Customs territory of the United States of seamless oil country tubular goods (OCTG) produced in Thailand that entered under entry summary number(s), identified below, and are covered by this certification. “Direct personal knowledge” refers to facts the certifying party is expected to have in its own records. For example, the importer should have direct personal knowledge of the importation of seamless OCTG, including the exporter's and/or foreign seller's identity and location;

C. If the importer is acting on behalf of the first U.S. customer, include the following sentence as paragraph C of this certification:

The seamless OCTG covered by this certification was imported by {IMPORTING COMPANY} on behalf of {U.S. CUSTOMER}, located at {ADDRESS OF U.S. CUSTOMER};

If the importer is not acting on behalf of the first U.S. customer, include the following sentence as paragraph C of this certification:

{NAME OF IMPORTING COMPANY} is not acting on behalf of the first U.S. customer.

D. The seamless OCTG covered by this certification was shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of steel billets or other inputs used to produce the imported seamless OCTG);

F. This certification applies to the following entries (repeat this block as many times as necessary):

Entry Summary #:

Entry Summary Line Item #:

Foreign Seller:

Foreign Seller's Address:

Foreign Seller's Invoice #:

Foreign Seller's Invoice Line Item #:

Country of Origin of steel billets: ¹⁵

¹⁵ Put “N/A” if the Country of Origin involves an input other than steel billets.

Producer:

Producer's Address:

G. The seamless OCTG covered by this certification does not contain steel billets produced in the People's Republic of China (China);

H. I understand that {IMPORTING COMPANY} is required to maintain a copy of this certification and sufficient documentation supporting this certification (i.e., documents maintained in the normal course of business, or documents obtained by the certifying party, for example, certificates of origin, product data sheets, mill test reports, productions records, invoices, etc.) until the later of: (1) the date that is five years after the date of the latest entry covered by the certification or; (2) the date that is three years after the conclusion of any litigation in the United States courts regarding such entries;

I. I understand that {IMPORTING COMPANY} is required to maintain a copy of the exporter's certification (attesting to the production and/or exportation of the imported merchandise identified above), and any supporting documentation provided to the importer by the exporter, until the later of: (1) the date that is five years after the date of the latest entry covered by the certification; or (2) the date that is three years after the conclusion of any litigation in United States courts regarding such entries;

J. I understand that {IMPORTING COMPANY}is required to submit a copy of the importer and exporter certifications, the commercial invoice, and the bill of lading at the time of entry summary by uploading these documents into the Document Imaging System in the Automated Commercial Environment, and to provide U.S. Customs and Border Protection (CBP) and/or the U.S. Department of Commerce (Commerce) with the importer certification, a copy of the exporter's certification, the commercial invoice, the bill of lading, and any supporting documentation provided to the importer by the exporter, upon request of either agency. Consistent with CBP's procedures, importers shall identify certified entries by using importers' additional declaration (record 54) AD/CVD Certification Designation (type code 06) when filing entry summary.

K. I understand that the claims made herein, and the substantiating documentation, are subject to verification by CBP and/or Commerce;

L. I understand that failure to maintain the required certification and supporting documentation, or failure to substantiate the claims made herein, or not allowing CBP and/or Commerce to verify the claims made herein, may result in a de facto determination that all entries to which this certification applies are within the scope of the antidumping duty (AD) and countervailing duty (CVD) orders on OCTG from China. I understand that such finding will result in:

(i) suspension of liquidation of all unliquidated entries (and entries for which liquidation has not become final) for which these requirements were not met;

(ii) the importer being required to post the antidumping duty and countervailing duty cash deposits determined by Commerce; and

(iii) the importer no longer being allowed to participate in the certification process.

M. I understand that agents of the importer, such as brokers, are not permitted to make this certification;

N. This certification was completed and signed on, or prior to, the date of the entry summary if the entry date is after September 3, 2025. If the entry date is on or before September 3, 2025, this certification was completed and signed by no later than October 3, 2025, and the importer and exporter certifications, the commercial invoice, and the bill of lading were uploaded to DIS in ACE by no later than October 3, 2025.

O. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF FOREIGN COMPANY THAT MADE THE SALE TO THE UNITED STATES); located at {ADDRESS OF FOREIGN COMPANY THAT MADE THE SALE TO THE UNITED STATES);

B. I have direct personal knowledge of the facts regarding the production and exportation of the seamless oil country tubular goods (OCTG) from Thailand for which sales are identified below. “Direct personal knowledge” refers to facts the certifying party is expected to have in its own records. For example, an exporter should have direct personal knowledge of the producer's identity and location;

C. The seamless OCTG covered by this certification was shipped to {NAME OF PARTY IN THE UNITED STATES TO WHOM MERCHANDISE WAS FIRST SHIPPED}, located at {U.S. ADDRESS TO WHICH MERCHANDISE WAS SHIPPED};

D. The seamless OCTG covered by this certification does not contain steel billets produced in the People's Republic of China (China);

E. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of steel billets: ¹⁶

¹⁶ Put “N/A” if the producer did not use steel billets in the production of seamless OCTG.

Location (Country) of Producer of steel billets: ¹⁷

¹⁷ Put “N/A” if the producer did not use steel billets in the production of seamless OCTG.

F. The seamless OCTG covered by this certification was shipped to {NAME OF U.S. PARTY TO WHOM MERCHANDISE WAS SHIPPED}, located at {U.S. ADDRESS TO WHICH MERCHANDISE WAS SHIPPED};

G. I understand that {NAME OF FOREIGN COMPANY THAT MADE THE SALE TO THE UNITED STATES} is required to maintain a copy of this certification and sufficient documentation supporting this certification (i.e., documents maintained in the normal course of business, or documents obtained by the certifying party, for example, product data sheets, mill test reports, productions records, invoices, etc.) until the later of: (1) the date that is five years after the latest date of the entries covered by the certification; or (2) the date that is three years after the conclusion of any litigation in the United States courts regarding such entries;

H. I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency;

I. I understand that the claims made herein, and the substantiating documentation, are subject to verification by CBP and/or Commerce;

J. I understand that failure to maintain the required certification and supporting documentation, or failure to substantiate the claims made herein, or not allowing CBP and/or Commerce to verify the claims made herein, may result in a de facto determination that all sales to which this certification applies are within the scope of the antidumping duty and countervailing duty orders on OCTG from China. I understand that such a finding will result in:

(i) suspension of all unliquidated entries (and entries for which liquidation has not become final) for which these requirements were not met;

(ii) the importer being required to post the antidumping duty and countervailing duty cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is after September 3, 2025. If the shipment date is on or before September 3, 2025, this certification was completed and signed, and a copy of the certification was provided to the importer, by no later than October 3, 2025; and

M. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

[FR Doc. 2026-03972 Filed 2-26-26; 8:45 am]

BILLING CODE 3510-DS-P